DEPARTMENT OF ENERGY

Federal Energy Regulatory Commission

[Docket No. EC01-95-000-000, et al]

Merchant Energy Group of the Americas, Inc., et al. Electric Rate and Corporate Regulation Filings

May 9, 2001.

Take notice that the following filings have been made with the Commission:

1. Merchant Energy Group of the Americas, Inc.

[Docket No. EC01-95-000]

Take notice that on May 2, 2001, Merchant Energy Group of the Americas, Inc. (MEGA) filed with the Federal Energy Regulatory Commission (Commission) an application pursuant to Section 203 of the Federal Power Act for authorization of a disposition of jurisdictional facilities whereby MEGA will assign the right, title, obligation, and interest in and to certain wholesale power sales contracts to Morgan Stanley Capital Group, Inc. (Morgan Stanley) through an Assignment Agreement. MEGA requests confidential treatment of Exhibit I, pursuant to 18 CFR 388.112 of the Commission's regulations, for the written instruments associated with the proposed disposition.

Comment date: May 23, 2001, in accordance with Standard Paragraph E at the end of this notice.

2. San Manuel Power Co. LLC

[Docket No. EG01-204-000]

Take notice that on May 4, 2001, San Manuel Power Co. LLC (Applicant), with its principal office at 7400 N. Oracle Rd., Suite 131, Tucson, Arizona, 85704, filed with the Federal Energy Regulatory Commission (the Commission) an application for determination of exempt wholesale generator status pursuant to Part 365 of the Commission's regulations.

Applicant is a limited liability company that will operate a 37-MW generating plant near San Manuel, Arizona.

Comment date: May 30, 2001, in accordance with Standard Paragraph E at the end of this notice. The Commission will limit its consideration of comments to those that concern the adequacy or accuracy of the application.

3. E. F. Oxnard, Inc.

[Docket No. EG01-205-000]

Take notice that on May 7, 2001, E. F. Oxnard, Inc. tendered for filing with the Federal Energy Regulatory Commission (Commission), an application for determination of exempt wholesale generator status pursuant to Part 365 of the Commission's regulations. The applicant is a limited liability company that will engage directly or indirectly and exclusively in the business of owning and/or operating eligible facilities in the United States and selling electric energy at wholesale. The applicant owns and operates an approximately 48 megawatt topping cycle qualifying cogeneration facility. The applicant seeks a determination of its exempt wholesale generator status. All electric energy sold by the applicant will be sold exclusively at wholesale.

Comment date: May 30, 2001, in accordance with Standard Paragraph E at the end of this notice. The Commission will limit its consideration of comments to those that concern the adequacy or accuracy of the application.

4. Southern Company Services, Inc.

[Docket No. ER01-1698-001]

Take notice that on May 2, 2001, Southern Company Services, Inc. as agent for Savannah Electric and Power Company (Savannah Electric), tendered for filing a reformatted Exhibit C to the unexecuted Interconnection Agreement between Savannah Electric and Effingham County Power, LLC (Effingham) (the Agreement), as a service agreement under Southern Operating Companies Open Access Transmission Tariff (FERC Electric Tariff, Fourth Revised Volume No. 5) and is designated as service agreement number 375. In addition, on April 30, 2001, Savannah Electric filed a Service Agreement designation sheet. These are a correction and omission to the filing tendered on April 2, 2001, respectively, and nothing in the Agreement or Exhibit C have been changed.

Comment date: May 23, 2001, in accordance with Standard Paragraph E at the end of this notice.

5. Southern Company Services, Inc.

[Docket No. ER01-1902-001]

Take notice that on May 2, 2001, Southern Company Services, Inc. as agent for Georgia Power Company (Georgia Power), tendered for filing an executed Interconnection Agreement between Georgia Power and Augusta Energy LLC (Augusta Energy) (the Agreement), as a service agreement under Southern Operating Companies Open Access Transmission Tariff (FERC Electric Tariff, Fourth Revised Volume No. 5), and a correctly formatted Exhibit C. The executed Agreement and correctly formatted Exhibit C are corrections to the filing tendered on April 27, 2001, and nothing in the Agreement or Exhibit C have been changed.

Comment date: May 23, 2001, in accordance with Standard Paragraph E at the end of this notice.

6. Florida Power & Light Company

[Docket No. ER01-1961-000]

Take notice that on May 4, 2001, Florida Power & Light Company (FPL) tendered for filing an executed Service Agreement for service pursuant to FPL's Cost Based Rates Tariff for Kissimmee Utility Authority. FPL requests that the Service Agreement be made effective on April 13, 2001.

Comment date: May 25, 2001, in accordance with Standard Paragraph E at the end of this notice.

7. Minnesota Power, Inc.

[Docket No. ER01-1962-000]

Take notice that on May 4, 2001, Minnesota Power, Inc. and Superior Water, Light and Power tendered for filing signed Service Agreements for Non-Firm and Short-Term Point-to-Point Transmission Service with El Paso Merchant Energy, L.P. under its Transmission Service Agreement to satisfy its filing requirements under this tariff.

Comment date: May 25, 2001, in accordance with Standard Paragraph E at the end of this notice.

8. Virginia Electric and Power Company

[Docket No. ER01-1963-000]

Take notice that on May 4, 2001, Virginia Electric and Power Company (Dominion Virginia Power) tendered for filing Notices of Termination of Service Agreements with Citizens Power Sales for Firm and Non-Firm Point-To-Point Transmission Service designated respectively as First Revised Service Agreement Nos. 119 and 169 under FERC Electric Tariff, Second Revised Volume No. 5. Dominion Virginia Power also respectfully requests an effective date of the termination of the Service Agreement of July 3, 2001, which is sixty (60) days from the date of filing of the Letter of Termination.

Copies of the filing were served upon Edison Mission Marketing & Trading, Inc. (merged entity replacing Citizens Power Sales), the Virginia State Corporation Commission and the North Carolina Utilities Commission.

Comment date: May 25, 2001, in accordance with Standard Paragraph E at the end of this notice.

9. Elwood Energy LLC

[Docket No. ER01-1975-000]

Take notice that on May 4, 2001, Elwood Energy LLC tendered for filing a second amended and restated service agreement for sales of energy and capacity to Exelon Generating Company, LLC.

Comment date: May 25, 2001, in accordance with Standard Paragraph E at the end of this notice.

10. Central Power and Light Company and West Texas Utilities Company

[Docket No. ER01-1973-000]

Take notice that on May 4, 2001, Central Power and Light Company (CPL) tendered for filing an interconnection agreement (Agreement) between CPL and the City of Brownsville, Texas (Brownsville). CPL states that the Agreement will supersede two bilateral CPL-Brownsville interconnection agreements currently on file with the Commission. CPL also filed Notices of Cancellation of those agreements. Additionally, CPL and West Texas Utilities Company (WTU) filed to cancel two transmission service agreements with Brownsville which have also been superseded.

CPL seeks an effective date of April 4, 2001 for the Agreement. CPL and WTU seek an effective date of April 4, 2001 for their respective Notices of Cancellation. Accordingly CPL and WTU request waiver of the Commission's notice requirements. Copies of the filing have been served on Brownsville and on the Public Utility Commission of Texas.

Comment date: May 25, 2001, in accordance with Standard Paragraph E at the end of this notice.

11. California Independent System Operator Corporation

[Docket No. ER01-1974-000]

Take notice that on May 4, 2001, the California Independent System Operator Corporation (ISO) tendered for filing for informational purposes a Termination and Release Agreement (Termination Agreement) between the ISO and Alliance Power Inc. (Alliance). Alliance is a non-jurisdictional generating facility that had entered into Summer Reliability Agreements (SRAs) with the ISO to provide new generation to the ISO for reliability purposes during summer periods. The Termination Agreement terminates those SRAs and releases the ISO and Alliance from all rights and obligations related to the SRAs. The Termination Agreement was executed on April 13, 2001, and will become effective simultaneously with the execution and delivery of a new Power Purchase Agreement between the California Department of Water Resources and Alliance.

The ISO states that this filing has been served upon the California Public Utilities Commission, the California Energy Commission, and the California Electricity Oversight Board.

Comment date: May 25, 2001, in accordance with Standard Paragraph E at the end of this notice.

12. Gray County Wind Energy, LLC

[Docket No. ER01-1972-000]

Take notice that on May 4, 2001, Gray County Wind Energy, LLC (Gray County), tendered for filing an application for authorization to sell capacity, energy and ancillary services at market-based rates pursuant to Section 205 of the Federal Power Act.

Gray County also requests that the Commission accept for filing two long-term power purchase agreements for the sale of power from Gray County to UtiliCorp United Inc. as service agreements under Gray County's proposed market-based rate tariff.

Comment date: May 25, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12182 Filed 5-14-01; 8:45 am]

BILLING CODE 6717-01-P